DEPARTMENT OF TRANSPORTATION

Federal Aviation Administration

Notice of Intent to Rule on Application To Impose and Use the Revenue From a Passenger Facility Charge (PFC) at Fayetteville Regional Airport, Fayetteville, North Carolina

AGENCY: Federal Aviation Administration (FAA), DOT.

ACTION: Notice of intent to rule on application.

SUMMARY: The FAA proposes to rule and invites public comment on the application to impose and use the revenue from a PFC at Fayetteville Regional Airport under the provisions of the Aviation Safety and Capacity Expansion Act of 1990 (Title IX of the Omnibus Budget Reconciliation Act of 1990) (Public Law 101-508) and Part 158 of the Federal Aviation Regulations (14 CFR Part 158).

DATES: Comments must be received on or before June 26, 2000.

ADDRESSES: Comments on this application may be mailed or delivered in triplicate to the FAA at the following address: Atlanta Airports District Office, 1701 Columbia Avenue, Suite 2-260, College Park, GA 30337-2747.

In addition, one copy of any comments submitted to the FAA must be mailed or delivered to Mr. Bradley S. Whited, Airport Director, of the City of Fayetteville at the following address: Mr. Bradley S. Whited, Airport Director, Fayetteville Regional Airport, P.O. Box 64218, Fayetteville, NC 28306.

Air carriers and foreign air carriers may submit copies of written comments previously provided to the City of Fayetteville under section 158.23 of Part 158.

FOR FURTHER INFORMATION CONTACT: Lee Kyker, Manager of Airport Programs, Atlanta Airports District Office, 1701 Columbia Avenue, Suite 2-260, College Park, GA 30337-2747, (404) 305-7161. The application may be reviewed in person at this same location.

SUPPLEMENTARY INFORMATION: The FAA proposes to rule and invites public comment on the application to impose and use the revenue from a PFC at Fayetteville Regional Airport under the provisions of the Aviation Safety and Capacity Expansion Act of 1990 (Title IX of the Omnibus Budget Reconciliation Act of 1990) Pub. L. 101-508) and Part 158 of the Federal Aviation Regulations (14 CFR Part 158).

On May 12, 2000, the FAA determined that the application to impose and use the revenue from a PFC submitted by the City of Fayetteville was substantially complete within the requirements of section 158.25 of Part 158. The FAA will approve or disapprove the application, in whole or in part, no later than September 8, 2000.

The following is a brief overview of the application.

PFC Application No.: 00-01-C-00-FAY.

Level of the proposed PFC: $3.00.

Proposed charge effective date: September 1, 2000.

Proposed charge expiration date: October 1, 2002.

Total estimated net PFC revenue: $942,620.

Brief description of proposed project(s):

• Airport Entrance Road

• Jetway System Modifications

• Security System Upgrade

• Preplan runway safety areas

• Rehabilitate north general aviation ramp

• Security system upgrade, Phase II

• Design & construct RSA, Rwy 4

• Acquire land

• Renovate terminal, Ph II

• Construct RSA, Rwy 4, Ph 2

• Land Purchase

• Renovate terminal

• Construct RSA

• Acquire land

• Rehabilitate Runway 10-28

• Acquire land in fee

• Construct fire training facility & rehabilitate ARFF vehicle Update Airport Master Plan

• Install taxiway guidance signs & REILS

• Construct new general aviation area (design only)

• Acquire sweeper

• Install terminal loading bridges

• Acquire ARFF vehicle

• Construct non-license vehicle road (design only)

• Taxiway K (design only)

• Install utilities for general aviation

• Design for Highway 301 Connector

• Acquire land for airport development

• Airport terminal development

• Construct taxiway K (design only)

• Construct GA apron (design only)

• Acquire land for development

• Rehabilitate terminal building

• Install 107.14 security access system

• Construct non-license vehicle road (NLVR)

• Jet bridge modification

• Construct taxiway K

Class or classes of air carriers which the public agency has requested not be required to collect PFCs: None

Any person may inspect the application in person at the FAA office listed above under FOR FURTHER INFORMATION CONTACT.

In addition, any person may, upon request, inspect the application, notice and other documents germane to the application in person at the Federal Aviation Administration.

Issued in Atlanta, Georgia on May 16, 2000.
Rans D. Black,
Acting Manager, Atlanta Airports District Office Southern Region.

[FR Doc. 00-13180 Filed 5-24-00; 8:45 am]

BILLING CODE 4910-13-M